DEPARTMENT OF HOMELAND SECURITY

Bureau Of Customs and Border Protection

Notice of Cancellation of Customs Broker Licenses

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker licenses and all associated permits are cancelled without prejudice.

Name | License No. | Issuing Port
Alomar Transport and Import, Inc | 15117 | New York.
Auditrade, Inc | 16550 | Tampa.

Dated: November 10, 2008.
Daniel Baldwin,
Assistant Commissioner, Office of International Trade.

[FR Doc. E8-27386 Filed 11-18-08; 8:45 am]

BILLING CODE 9111-14-P